DEPARTMENT OF TRANSPORTATION

Federal Aviation Administration

14 CFR Part 39

[Docket No. FAA-2004-19929; Directorate Identifier 2004-NE-15-AD]

RIN 2120-AA64

Airworthiness Directives; Pratt & Whitney JT8D-1, -1A, -1B, -7, -7A, -7B, -9, -9A, -11, -15, -15A, -17, -17A, -17R, -17AR, -209, -217, -217A, -217C, and -219 Turbofan Engines

AGENCY: Federal Aviation Administration (FAA), DOT.

ACTION: Notice of proposed rulemaking (NPRM).

SUMMARY: The FAA proposes to adopt a new airworthiness directive (AD) for Pratt & Whitney (PW) JT8D-1, -1A, -1B, -7, -7A, -7B, -9, -9A, -11, -15, -15A, -17, -17A, -17R, -17AR, -209, -217, -217A, -217C, and -219 turbofan engines. This proposed AD would require removing affected rotating parts overhauled by a certain repair vendor, and inspecting or replacing the parts as applicable. This proposed AD results from reports that certain JT8D critical life-limited rotating parts have been returned to service with cracks, corrosion pitting, or dimensions outside of manual limits. We are proposing this AD to prevent failure of critical life-limited rotating engine parts which could result in an uncontained engine failure and damage to the airplane.

DATES: We must receive any comments on this proposed AD by February 28, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: (202) 493-2251.

• Hand Delivery: Room PL-401 on the plaza level of the Nassif Building, 400 Seventh Street, SW., Washington, DC, between 9 a.m. and 5 p.m., Monday through Friday, except Federal holidays.

You can get the service information identified in this proposed AD from Pratt & Whitney, 400 Main St., East Hartford, CT 06108; telephone (860) 565-7700; fax (860) 565-1605.

You may examine the comments on this proposed AD in the AD docket on the Internet at http://dms.dot.gov.

FOR FURTHER INFORMATION CONTACT: Keith Lardie, Aerospace Engineer, Engine Certification Office, FAA, Engine and Propeller Directorate, 12 New England Executive Park, Burlington, MA 01803-5299; telephone (781) 238-7189; fax (781) 238-7199.

SUPPLEMENTARY INFORMATION:

Docket Management System (DMS)

We have implemented new procedures for maintaining AD dockets electronically. As of May 17, 2004, we post new AD actions on the DMS and assign a DMS docket number. We track each action and assign a corresponding Directorate identifier. The DMS docket No. is in the form “Docket No. FAA-200X-XXXXX.” Each DMS docket also lists the Directorate identifier (“Old Docket Number”) as a cross-reference for searching purposes.

Comments Invited

We invite you to submit any written relevant data, views, or arguments regarding this proposal. Send your comments to an address listed under ADDRESSES. Include “Docket No. FAA-2004-19929; Directorate Identifier 2004-NE-15-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and any final disposition in person at the DMS Docket Offices between 9:00 a.m. and 5:00 p.m., Monday through Friday, except Federal holidays. The Docket Office (telephone (800) 647-5227) is located on the plaza level of the Department of Transportation Nassif Building at the street address stated in ADDRESSES. Comments will be available in the AD docket shortly after the DMS receives them.

Discussion

During an investigation of two high pressure compressor disks from a repair vendor, PW found chips in the disks' protective coating. When PW removed the remainder of the coating, PW found cracks and corrosion pitting. Upon further investigation, PW found approximately 85% of the parts PW looked at from the same repair vendor were either cracked, had cracks emanating from bolt holes, were pitted, or improperly blended or machined. As a result, we issued Special Airworthiness Information Bulletin (SAIB) No. NE-02-08 on December 20, 2001 to provide additional information about this subject. SAIB No. NE-02-08 does not provide compliance time information. This condition, if not corrected, could result in an uncontained engine failure and damage to the airplane.

Relevant Service Information

We have reviewed and approved the technical contents of PW Alert Service Bulletin (ASB) No. JT8D A6442, dated April 4, 2003, that describes procedures for removing the affected rotating parts, inspecting, overhauling, and returning the parts to service as applicable.

FAA's Determination and Requirements of the Proposed AD

We have evaluated all pertinent information and identified an unsafe condition that is likely to exist or develop on other products of this same type design. We are proposing this AD, which would require removing affected rotating parts overhauled by CADMAR Aerospace, Inc. and inspecting or replacing the parts as applicable. The proposed AD would require you to use the service information described previously to perform these actions.

Costs of Compliance

We estimate that about 632 JT8D engines installed on airplanes of U.S. registry would be affected by this proposed AD. We estimate that 158 engines will require access to the high pressure compressor outside of regularly scheduled maintenance, and will require 66 work hours per engine. The high pressure compressor section of the remaining 474 engines will be inspected during regularly scheduled maintenance, and will therefore not require additional labor costs to inspect. The average labor rate is $65 per work hour. We estimate that half of the parts presently installed will require replacement, at a cost of approximately $6,730,750. Based on this information, we estimate the total cost of the proposed AD to U.S. operators to be $8,086,390.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration amends § 39.13 by adding the following new airworthiness directive (AD):

Pratt & Whitney: Docket No. FAA-2004-19929; Directorate Identifier 2004-NE-15-AD.

Comments Due Date

(a) The FAA must receive comments on this AD action by February 28, 2005.

Affected ADs

(b) None.

Applicability

(c) This AD applies to Pratt & Whitney (PW) JT8D-1, -1A, -1B, -7, -7A, -7B, -9, -9A, -11, -15, -15A, -17, -17A, -17R, -17AR, -209, -217, -217A, -217C, and -219 turbofan engines. These engines are installed on, but not limited to, Boeing 727 and 737 series, and McDonnell Douglas DC-9 series and MD-80 series airplanes.

Unsafe Condition

(d) This AD results from reports that certain JT8D critical life-limited rotating parts have been returned to service with cracks, corrosion pitting, or dimensions outside of manual limits. We are issuing this AD to prevent failure of critical life-limited rotating engine parts, which could result in an uncontained engine failure and damage to the airplane.

Compliance

(e) You are responsible for having the actions required by this AD performed within the compliance times specified unless the actions have already been done, and no later than March 31, 2008.

Disks and Hubs Installed in Engines

(f) At the next shop visit after the effective date of this AD, remove all coating from the disks and hubs identified in Tables 1 and 2 of this AD and visually, dimensionally, and nondestructively inspect the parts using the inspection criteria listed in the Accomplishment Instructions portion of PW Alert Service Bulletin (ASB) No. JT8D A6442, dated April 4, 2003.

Table 1.—Affected 7th, 8th, 9th, 10th, 11th, and 12th Stage Compressor Disks
SN | P/N * | Description *
B207AA0072 | 774407 | DISK—COMPRESSOR, 7TH STAGE.
B207AA0185 | 774407 | DISK—COMPRESSOR, 7TH STAGE.
B207AA0265 | 774407 | DISK—COMPRESSOR, 7TH STAGE.
B207AA0307 | 774407 | DISK—COMPRESSOR, 7TH STAGE.
B207AA0390 | 774407 | DISK—COMPRESSOR, 7TH STAGE.
B207AA0602 | 774407 | DISK—COMPRESSOR, 7TH STAGE.
BENCAH2848 | 774407 | DISK—COMPRESSOR, 7TH STAGE.
BENCAJ5251 | 774407 | DISK—COMPRESSOR, 7TH STAGE.
BENCAJ8447 | 774407 | DISK—COMPRESSOR, 7TH STAGE.
BENCAJ8508 | 774407 | DISK—COMPRESSOR, 7TH STAGE.
BENCAK1906 | 774407 | DISK—COMPRESSOR, 7TH STAGE.
BENCAK5073 | 774407 | DISK—COMPRESSOR, 7TH STAGE.
BENCAK6015 | 774407 | DISK—COMPRESSOR, 7TH STAGE.
BENCAK6588 | 774407 | DISK—COMPRESSOR, 7TH STAGE.
G83339 | 774407 | DISK—COMPRESSOR, 7TH STAGE.
H29725 | 774407 | DISK—COMPRESSOR, 7TH STAGE.
J39323 | 774407 | DISK—COMPRESSOR, 7TH STAGE.
J66757 | 774407 | DISK—COMPRESSOR, 7TH STAGE.
J93566 | 774407 | DISK—COMPRESSOR, 7TH STAGE.
K72131 | 774407 | DISK—COMPRESSOR, 7TH STAGE.
L24089 | 774407 | DISK—COMPRESSOR, 7TH STAGE.
M15351 | 774407 | DISK—COMPRESSOR, 7TH STAGE.
M78744 | 774407 | DISK—COMPRESSOR, 7TH STAGE.
M88080 | 774407 | DISK—COMPRESSOR, 7TH STAGE.
N04693 | 774407 | DISK—COMPRESSOR, 7TH STAGE.
N24126 | 774407 | DISK—COMPRESSOR, 7TH STAGE.
N37768 | 774407 | DISK—COMPRESSOR, 7TH STAGE.
N70373 | 774407 | DISK—COMPRESSOR, 7TH STAGE.
N88332 | 774407 | DISK—COMPRESSOR, 7TH STAGE.
P14777 | 774407 | DISK—COMPRESSOR, 7TH STAGE.
P14853 | 774407 | DISK—COMPRESSOR, 7TH STAGE.
P54407 | 774407 | DISK—COMPRESSOR, 7TH STAGE.
P60411 | 774407 | DISK—COMPRESSOR, 7TH STAGE.
R02963 | 774407 | DISK—COMPRESSOR, 7TH STAGE.
R02983 | 774407 | DISK—COMPRESSOR, 7TH STAGE.
R03090 | 774407 | DISK—COMPRESSOR, 7TH STAGE.
R12397 | 774407 | DISK—COMPRESSOR, 7TH STAGE.
R12398 | 774407 | DISK—COMPRESSOR, 7TH STAGE.
R12414 | 774407 | DISK—COMPRESSOR, 7TH STAGE.
R12506 | 774407 | DISK—COMPRESSOR, 7TH STAGE.
R12527 | 774407 | DISK—COMPRESSOR, 7TH STAGE.
R19285 | 774407 | DISK—COMPRESSOR, 7TH STAGE.
R19423 | 774407 | DISK—COMPRESSOR, 7TH STAGE.
R19466 | 774407 | DISK—COMPRESSOR, 7TH STAGE.
R31288 | 774407 | DISK—COMPRESSOR, 7TH STAGE.
R31356 | 774407 | DISK—COMPRESSOR, 7TH STAGE.
R37429 | 774407 | DISK—COMPRESSOR, 7TH STAGE.
R57637 | 774407 | DISK—COMPRESSOR, 7TH STAGE.
R57707 | 774407 | DISK—COMPRESSOR, 7TH STAGE.
R72163 | 774407 | DISK—COMPRESSOR, 7TH STAGE.
R81448 | 774407 | DISK—COMPRESSOR, 7TH STAGE.
R81455 | 774407 | DISK—COMPRESSOR, 7TH STAGE.
R90915 | 774407 | DISK—COMPRESSOR, 7TH STAGE.
S05602 | 774407 | DISK—COMPRESSOR, 7TH STAGE.
S13909 | 774407 | DISK—COMPRESSOR, 7TH STAGE.
S13945 | 774407 | DISK—COMPRESSOR, 7TH STAGE.
S14021 | 774407 | DISK—COMPRESSOR, 7TH STAGE.
S14057 | 774407 | DISK—COMPRESSOR, 7TH STAGE.
S14083 | 774407 | DISK—COMPRESSOR, 7TH STAGE.
S14112 | 774407 | DISK—COMPRESSOR, 7TH STAGE.
S36685 | 774407 | DISK—COMPRESSOR, 7TH STAGE.
S36696 | 774407 | DISK—COMPRESSOR, 7TH STAGE.
S36760 | 774407 | DISK—COMPRESSOR, 7TH STAGE.
S36882 | 774407 | DISK—COMPRESSOR, 7TH STAGE.
S37210 | 774407 | DISK—COMPRESSOR, 7TH STAGE.
S37330 | 774407 | DISK—COMPRESSOR, 7TH STAGE.
S37334 | 774407 | DISK—COMPRESSOR, 7TH STAGE.
S37351 | 774407 | DISK—COMPRESSOR, 7TH STAGE.
S37384 | 774407 | DISK—COMPRESSOR, 7TH STAGE.
T04464 | 774407 | DISK—COMPRESSOR, 7TH STAGE.
T04520 | 774407 | DISK—COMPRESSOR, 7TH STAGE.
T04635 | 774407 | DISK—COMPRESSOR, 7TH STAGE.
T04674 | 774407 | DISK—COMPRESSOR, 7TH STAGE.
T04725 | 774407 | DISK—COMPRESSOR, 7TH STAGE.
T04770 | 774407 | DISK—COMPRESSOR, 7TH STAGE.
T04778 | 774407 | DISK—COMPRESSOR, 7TH STAGE.
T04841 | 774407 | DISK—COMPRESSOR, 7TH STAGE.
T04965 | 774407 | DISK—COMPRESSOR, 7TH STAGE.
T05018 | 774407 | DISK—COMPRESSOR, 7TH STAGE.
BENCAP1838 | 815607 | DISK—COMPRESSOR, 7TH STAGE.
BENCAP5647 | 815607 | DISK—COMPRESSOR, 7TH STAGE.
B207AA0127 | 5006007-01 | DISK—COMPRESSOR, 7TH STAGE.
BENCAK9663 | 5006007-02 | DISK—COMPRESSOR, 7TH STAGE.
BENCAL3896 | 5006007-02 | DISK—COMPRESSOR, 7TH STAGE.
BENCAL5171 | 5006007-02 | DISK—COMPRESSOR, 7TH STAGE.
BENCAM1583 | 5006007-02 | DISK—COMPRESSOR, 7TH STAGE.
BENCAM3953 | 5006007-02 | DISK—COMPRESSOR, 7TH STAGE.
BENCAM8359 | 5006007-02 | DISK—COMPRESSOR, 7TH STAGE.
BENCAM8385 | 5006007-02 | DISK—COMPRESSOR, 7TH STAGE.
BENCAN5764 | 5006007-02 | DISK—COMPRESSOR, 7TH STAGE.
BENCAN5857 | 5006007-02 | DISK—COMPRESSOR, 7TH STAGE.
2B7763 | 738308 | DISK—COMPRESSOR, 8TH STAGE.
B208AA0063 | 748608 | DISK—COMPRESSOR, 8TH STAGE.
B208AA0075 | 748608 | DISK—COMPRESSOR, 8TH STAGE.
BENCAM3705 | 748608 | DISK—COMPRESSOR, 8TH STAGE.
BENCAP0649 | 748608 | DISK—COMPRESSOR, 8TH STAGE.
BENCAP1082 | 748608 | DISK—COMPRESSOR, 8TH STAGE.
G62633 | 748608 | DISK—COMPRESSOR, 8TH STAGE.
H64242 | 748608 | DISK—COMPRESSOR, 8TH STAGE.
H64541 | 748608 | DISK—COMPRESSOR, 8TH STAGE.
J27080 | 748608 | DISK—COMPRESSOR, 8TH STAGE.
M54597 | 748608 | DISK—COMPRESSOR, 8TH STAGE.
N84400 | 748608 | DISK—COMPRESSOR, 8TH STAGE.
P26132 | 748608 | DISK—COMPRESSOR, 8TH STAGE.
P28454 | 748608 | DISK—COMPRESSOR, 8TH STAGE.
P28525 | 748608 | DISK—COMPRESSOR, 8TH STAGE.
P28529 | 748608 | DISK—COMPRESSOR, 8TH STAGE.
P28610 | 748608 | DISK—COMPRESSOR, 8TH STAGE.
R18442 | 748608 | DISK—COMPRESSOR, 8TH STAGE.
R44993 | 748608 | DISK—COMPRESSOR, 8TH STAGE.
R45505 | 748608 | DISK—COMPRESSOR, 8TH STAGE.
R74513 | 748608 | DISK—COMPRESSOR, 8TH STAGE.
S01111 | 748608 | DISK—COMPRESSOR, 8TH STAGE.
S19131 | 748608 | DISK—COMPRESSOR, 8TH STAGE.
S50698 | 748608 | DISK—COMPRESSOR, 8TH STAGE.
S50793 | 748608 | DISK—COMPRESSOR, 8TH STAGE.
S78019 | 748608 | DISK—COMPRESSOR, 8TH STAGE.
BENCAP4498 | 815608 | DISK—COMPRESSOR, 8TH STAGE.
BENCAP4505 | 815608 | DISK—COMPRESSOR, 8TH STAGE.
BENCAR1361 | 815608 | DISK—COMPRESSOR, 8TH STAGE.
BENCAR1363 | 815608 | DISK—COMPRESSOR, 8TH STAGE.
BENCAR1367 | 815608 | DISK—COMPRESSOR, 8TH STAGE.
R91483 | 5005808-01 | DISK—COMPRESSOR, 8TH STAGE.
T03355 | 5005808-01 | DISK—COMPRESSOR, 8TH STAGE.
M33420 | 787008 | HUB—REAR COMPRESSOR, FRONT.
N06209 | 787008 | HUB—REAR COMPRESSOR, FRONT.
N33004 | 787008 | HUB—REAR COMPRESSOR, FRONT.
N33349 | 787008 | HUB—REAR COMPRESSOR, FRONT.
N33420 | 787008 | HUB—REAR COMPRESSOR, FRONT.
N34154 | 787008 | HUB—REAR COMPRESSOR, FRONT.
N90416 | 787008 | HUB—REAR COMPRESSOR, FRONT.
N90658 | 787008 | HUB—REAR COMPRESSOR, FRONT.
B228AA0190 | 787208 | HUB—REAR COMPRESSOR, FRONT.
B228AA0194 | 787208 | HUB—REAR COMPRESSOR, FRONT.
B228AA1021 | 787208 | HUB—REAR COMPRESSOR, FRONT.
BENCAH0967 | 787208 | HUB—REAR COMPRESSOR, FRONT.
BENCAH0969 | 787208 | HUB—REAR COMPRESSOR, FRONT.
BENCAK0069 | 787208 | HUB—REAR COMPRESSOR, FRONT.
BENCAK8767 | 787208 | HUB—REAR COMPRESSOR, FRONT.
BENCAL2504 | 787208 | HUB—REAR COMPRESSOR, FRONT.
BENCAM2701 | 787208 | HUB—REAR COMPRESSOR, FRONT.
BENCAN0012 | 787208 | HUB—REAR COMPRESSOR, FRONT.
BENCAN1226 | 787208 | HUB—REAR COMPRESSOR, FRONT.
BENCAN3008 | 787208 | HUB—REAR COMPRESSOR, FRONT.
P43696 | 787208 | HUB—REAR COMPRESSOR, FRONT.
P43934 | 787208 | HUB—REAR COMPRESSOR, FRONT.
P43948 | 787208 | HUB—REAR COMPRESSOR, FRONT.
P44411 | 787208 | HUB—REAR COMPRESSOR, FRONT.
P45017 | 787208 | HUB—REAR COMPRESSOR, FRONT.
P45277 | 787208 | HUB—REAR COMPRESSOR, FRONT.
P45459 | 787208 | HUB—REAR COMPRESSOR, FRONT.
P45544 | 787208 | HUB—REAR COMPRESSOR, FRONT.
R23166 | 787208 | HUB—REAR COMPRESSOR, FRONT.
R23187 | 787208 | HUB—REAR COMPRESSOR, FRONT.
R23277 | 787208 | HUB—REAR COMPRESSOR, FRONT.
R23628 | 787208 | HUB—REAR COMPRESSOR, FRONT.
R23806 | 787208 | HUB—REAR COMPRESSOR, FRONT.
R24209 | 787208 | HUB—REAR COMPRESSOR, FRONT.
R24598 | 787208 | HUB—REAR COMPRESSOR, FRONT.
R24900 | 787208 | HUB—REAR COMPRESSOR, FRONT.
R91415 | 787208 | HUB—REAR COMPRESSOR, FRONT.
R91746 | 787208 | HUB—REAR COMPRESSOR, FRONT.
R92224 | 787208 | HUB—REAR COMPRESSOR, FRONT.
S07564 | 787208 | HUB—REAR COMPRESSOR, FRONT.
S07655 | 787208 | HUB—REAR COMPRESSOR, FRONT.
S07706 | 787208 | HUB—REAR COMPRESSOR, FRONT.
S39160 | 787208 | HUB—REAR COMPRESSOR, FRONT.
S39199 | 787208 | HUB—REAR COMPRESSOR, FRONT.
S39338 | 787208 | HUB—REAR COMPRESSOR, FRONT.
S39741 | 787208 | HUB—REAR COMPRESSOR, FRONT.
S39839 | 787208 | HUB—REAR COMPRESSOR, FRONT.
S40023 | 787208 | HUB—REAR COMPRESSOR, FRONT.
S40043 | 787208 | HUB—REAR COMPRESSOR, FRONT.
B228AA0261 | 792038 | HUB—REAR COMPRESSOR, 8TH STAGE.
B228AA0566 | 792038 | HUB—REAR COMPRESSOR, 8TH STAGE.
BENCAK8279 | 792038 | HUB—REAR COMPRESSOR, 8TH STAGE.
M41870 | 792038 | HUB—REAR COMPRESSOR, 8TH STAGE.
N89470 | 797938 | HUB—REAR COMPRESSOR, 8TH STAGE.
BENCAP5753 | 815708 | HUB—REAR COMPRESSOR, 8TH STAGE.
BENCAR5454 | 815708 | HUB—REAR COMPRESSOR, 8TH STAGE.
BENCAR5458 | 815708 | HUB—REAR COMPRESSOR, 8TH STAGE.
BENCAR5500 | 815708 | HUB—REAR COMPRESSOR, 8TH STAGE.
BENCAR0387 | 815808 | HUB—REAR COMPRESSOR, 8TH STAGE.
G79931 | 701509 | DISK—COMPRESSOR, 9TH STAGE.
H12008 | 701509 | DISK—COMPRESSOR, 9TH STAGE.
H85014 | 701509 | DISK—COMPRESSOR, 9TH STAGE.
J24173 | 701509 | DISK—COMPRESSOR, 9TH STAGE.
J89012 | 701509 | DISK—COMPRESSOR, 9TH STAGE.
L31210 | 701509 | DISK—COMPRESSOR, 9TH STAGE.
M84244 | 701509 | DISK—COMPRESSOR, 9TH STAGE.
M84648 | 701509 | DISK—COMPRESSOR, 9TH STAGE.
N03018 | 701509 | DISK—COMPRESSOR, 9TH STAGE.
N209AA0003 | 701509 | DISK—COMPRESSOR, 9TH STAGE.
N209AA0021 | 701509 | DISK—COMPRESSOR, 9TH STAGE.
N209AA0108 | 701509 | DISK—COMPRESSOR, 9TH STAGE.
N209AA0110 | 701509 | DISK—COMPRESSOR, 9TH STAGE.
N209AA0120 | 701509 | DISK—COMPRESSOR, 9TH STAGE.
N209AA0251 | 701509 | DISK—COMPRESSOR, 9TH STAGE.
N209AA0254 | 701509 | DISK—COMPRESSOR, 9TH STAGE.
N209AA0339 | 701509 | DISK—COMPRESSOR, 9TH STAGE.
N209AA0465 | 701509 | DISK—COMPRESSOR, 9TH STAGE.
N209AA0613 | 701509 | DISK—COMPRESSOR, 9TH STAGE.
N41318 | 701509 | DISK—COMPRESSOR, 9TH STAGE.
N97641 | 701509 | DISK—COMPRESSOR, 9TH STAGE.
N97777 | 701509 | DISK—COMPRESSOR, 9TH STAGE.
N98300 | 701509 | DISK—COMPRESSOR, 9TH STAGE.
N98342 | 701509 | DISK—COMPRESSOR, 9TH STAGE.
NENCAH0026 | 701509 | DISK—COMPRESSOR, 9TH STAGE.
NENCAH0145 | 701509 | DISK—COMPRESSOR, 9TH STAGE.
NENCAH0196 | 701509 | DISK—COMPRESSOR, 9TH STAGE.
NENCAH0311 | 701509 | DISK—COMPRESSOR, 9TH STAGE.
NENCAH0558 | 701509 | DISK—COMPRESSOR, 9TH STAGE.
NENCAH0686 | 701509 | DISK—COMPRESSOR, 9TH STAGE.
NENCAH0808 | 701509 | DISK—COMPRESSOR, 9TH STAGE.
NENCAH1372 | 701509 | DISK—COMPRESSOR, 9TH STAGE.
NENCAH1462 | 701509 | DISK—COMPRESSOR, 9TH STAGE.
NENCAH1787 | 701509 | DISK—COMPRESSOR, 9TH STAGE.
NENCAH2157 | 701509 | DISK—COMPRESSOR, 9TH STAGE.
NENCAH2310 | 701509 | DISK—COMPRESSOR, 9TH STAGE.
NENCAH2618 | 701509 | DISK—COMPRESSOR, 9TH STAGE.
NENCAH2744 | 701509 | DISK—COMPRESSOR, 9TH STAGE.
NENCAH2754 | 701509 | DISK—COMPRESSOR, 9TH STAGE.
NENCAH2812 | 701509 | DISK—COMPRESSOR, 9TH STAGE.
NENCAH3172 | 701509 | DISK—COMPRESSOR, 9TH STAGE.
P11727 | 701509 | DISK—COMPRESSOR, 9TH STAGE.
P51543 | 701509 | DISK—COMPRESSOR, 9TH STAGE.
P51573 | 701509 | DISK—COMPRESSOR, 9TH STAGE.
P51959 | 701509 | DISK—COMPRESSOR, 9TH STAGE.
P52941 | 701509 | DISK—COMPRESSOR, 9TH STAGE.
P98658 | 701509 | DISK—COMPRESSOR, 9TH STAGE.
P98768 | 701509 | DISK—COMPRESSOR, 9TH STAGE.
R17612 | 701509 | DISK—COMPRESSOR, 9TH STAGE.
R17753 | 701509 | DISK—COMPRESSOR, 9TH STAGE.
R17770 | 701509 | DISK—COMPRESSOR, 9TH STAGE.
R18740 | 701509 | DISK—COMPRESSOR, 9TH STAGE.
R19009 | 701509 | DISK—COMPRESSOR, 9TH STAGE.
R19013 | 701509 | DISK—COMPRESSOR, 9TH STAGE.
R45437 | 701509 | DISK—COMPRESSOR, 9TH STAGE.
R45449 | 701509 | DISK—COMPRESSOR, 9TH STAGE.
R45875 | 701509 | DISK—COMPRESSOR, 9TH STAGE.
R46726 | 701509 | DISK—COMPRESSOR, 9TH STAGE.
R72945 | 701509 | DISK—COMPRESSOR, 9TH STAGE.
R72960 | 701509 | DISK—COMPRESSOR, 9TH STAGE.
R73803 | 701509 | DISK—COMPRESSOR, 9TH STAGE.
R73835 | 701509 | DISK—COMPRESSOR, 9TH STAGE.
R73941 | 701509 | DISK—COMPRESSOR, 9TH STAGE.
S00757 | 701509 | DISK—COMPRESSOR, 9TH STAGE.
S00963 | 701509 | DISK—COMPRESSOR, 9TH STAGE.
S18823 | 701509 | DISK—COMPRESSOR, 9TH STAGE.
S18838 | 701509 | DISK—COMPRESSOR, 9TH STAGE.
S18955 | 701509 | DISK—COMPRESSOR, 9TH STAGE.
S50282 | 701509 | DISK—COMPRESSOR, 9TH STAGE.
S50317 | 701509 | DISK—COMPRESSOR, 9TH STAGE.
S50434 | 701509 | DISK—COMPRESSOR, 9TH STAGE.
S70079 | 701509 | DISK—COMPRESSOR, 9TH STAGE.
S77569 | 701509 | DISK—COMPRESSOR, 9TH STAGE.
S77744 | 701509 | DISK—COMPRESSOR, 9TH STAGE.
S77764 | 701509 | DISK—COMPRESSOR, 9TH STAGE.
T18831 | 701509 | DISK—COMPRESSOR, 9TH STAGE.
T27504 | 701509 | DISK—COMPRESSOR, 9TH STAGE.
T27506 | 701509 | DISK—COMPRESSOR, 9TH STAGE.
T27542 | 701509 | DISK—COMPRESSOR, 9TH STAGE.
N41854 | 772509 | DISK—COMPRESSOR, 9TH STAGE.
B209AA0643 | 798509 | DISK—COMPRESSOR, 9TH STAGE.
BENCAK4407 | 798509 | DISK—COMPRESSOR, 9TH STAGE.
BENCAK5293 | 798509 | DISK—COMPRESSOR, 9TH STAGE.
BENCAK9176 | 798509 | DISK—COMPRESSOR, 9TH STAGE.
S79381 | 798509 | DISK—COMPRESSOR, 9TH STAGE.
BENCAP5919 | 815609 | DISK—COMPRESSOR, 9TH STAGE.
BENCAP8126 | 815609 | DISK—COMPRESSOR, 9TH STAGE.
BENCAP7181 | 815709 | DISK—COMPRESSOR, 9TH STAGE.
1A9814 | 701410 | DISK—COMPRESSOR, 10TH STAGE.
H18187 | 701410 | DISK—COMPRESSOR, 10TH STAGE.
B210AA0149 | 772510 | DISK—COMPRESSOR, 10TH STAGE.
B210AA0640 | 772510 | DISK—COMPRESSOR, 10TH STAGE.
B210AA0909 | 772510 | DISK—COMPRESSOR, 10TH STAGE.
BENCAH0262 | 772510 | DISK—COMPRESSOR, 10TH STAGE.
BENCAH2166 | 772510 | DISK—COMPRESSOR, 10TH STAGE.
BENCAH2273 | 772510 | DISK—COMPRESSOR, 10TH STAGE.
BENCAH3784 | 772510 | DISK—COMPRESSOR, 10TH STAGE.
BENCAH4152 | 772510 | DISK—COMPRESSOR, 10TH STAGE.
BENCAH7481 | 772510 | DISK—COMPRESSOR, 10TH STAGE.
BENCAJ9921 | 772510 | DISK—COMPRESSOR, 10TH STAGE.
BENCAK0265 | 772510 | DISK—COMPRESSOR, 10TH STAGE.
BENCAK0436 | 772510 | DISK—COMPRESSOR, 10TH STAGE.
BENCAK6513 | 772510 | DISK—COMPRESSOR, 10TH STAGE.
BENCAL1628 | 772510 | DISK—COMPRESSOR, 10TH STAGE.
BENCAL1639 | 772510 | DISK—COMPRESSOR, 10TH STAGE.
BENCAL3371 | 772510 | DISK—COMPRESSOR, 10TH STAGE.
BENCAL6369 | 772510 | DISK—COMPRESSOR, 10TH STAGE.
BENCAM1250 | 772510 | DISK—COMPRESSOR, 10TH STAGE.
BENCAM3804 | 772510 | DISK—COMPRESSOR, 10TH STAGE.
BENCAM3921 | 772510 | DISK—COMPRESSOR, 10TH STAGE.
BENCAM4098 | 772510 | DISK—COMPRESSOR, 10TH STAGE.
BENCAM9868 | 772510 | DISK—COMPRESSOR, 10TH STAGE.
BENCAM9908 | 772510 | DISK—COMPRESSOR, 10TH STAGE.
BENCAN1150 | 772510 | DISK—COMPRESSOR, 10TH STAGE.
BENCAN7151 | 772510 | DISK—COMPRESSOR, 10TH STAGE.
H77954 | 772510 | DISK—COMPRESSOR, 10TH STAGE.
J70438 | 772510 | DISK—COMPRESSOR, 10TH STAGE.
K35562 | 772510 | DISK—COMPRESSOR, 10TH STAGE.
K67440 | 772510 | DISK—COMPRESSOR, 10TH STAGE.
M61663 | 772510 | DISK—COMPRESSOR, 10TH STAGE.
M73696 | 772510 | DISK—COMPRESSOR, 10TH STAGE.
M73717 | 772510 | DISK—COMPRESSOR, 10TH STAGE.
M73921 | 772510 | DISK—COMPRESSOR, 10TH STAGE.
N02011 | 772510 | DISK—COMPRESSOR, 10TH STAGE.
N22418 | 772510 | DISK—COMPRESSOR, 10TH STAGE.
N80149 | 772510 | DISK—COMPRESSOR, 10TH STAGE.
N80717 | 772510 | DISK—COMPRESSOR, 10TH STAGE.
N97525 | 772510 | DISK—COMPRESSOR, 10TH STAGE.
N98121 | 772510 | DISK—COMPRESSOR, 10TH STAGE.
N98502 | 772510 | DISK—COMPRESSOR, 10TH STAGE.
P51840 | 772510 | DISK—COMPRESSOR, 10TH STAGE.
P51884 | 772510 | DISK—COMPRESSOR, 10TH STAGE.
P52230 | 772510 | DISK—COMPRESSOR, 10TH STAGE.
P52692 | 772510 | DISK—COMPRESSOR, 10TH STAGE.
P53030 | 772510 | DISK—COMPRESSOR, 10TH STAGE.
P98173 | 772510 | DISK—COMPRESSOR, 10TH STAGE.
R18125 | 772510 | DISK—COMPRESSOR, 10TH STAGE.
R18126 | 772510 | DISK—COMPRESSOR, 10TH STAGE.
R18219 | 772510 | DISK—COMPRESSOR, 10TH STAGE.
R45551 | 772510 | DISK—COMPRESSOR, 10TH STAGE.
R45884 | 772510 | DISK—COMPRESSOR, 10TH STAGE.
R46585 | 772510 | DISK—COMPRESSOR, 10TH STAGE.
R72889 | 772510 | DISK—COMPRESSOR, 10TH STAGE.
R74037 | 772510 | DISK—COMPRESSOR, 10TH STAGE.
S01333 | 772510 | DISK—COMPRESSOR, 10TH STAGE.
S01381 | 772510 | DISK—COMPRESSOR, 10TH STAGE.
S19348 | 772510 | DISK—COMPRESSOR, 10TH STAGE.
S19418 | 772510 | DISK—COMPRESSOR, 10TH STAGE.
S19446 | 772510 | DISK—COMPRESSOR, 10TH STAGE.
S19563 | 772510 | DISK—COMPRESSOR, 10TH STAGE.
S50885 | 772510 | DISK—COMPRESSOR, 10TH STAGE.
S51060 | 772510 | DISK—COMPRESSOR, 10TH STAGE.
S51077 | 772510 | DISK—COMPRESSOR, 10TH STAGE.
S70198 | 772510 | DISK—COMPRESSOR, 10TH STAGE.
S70221 | 772510 | DISK—COMPRESSOR, 10TH STAGE.
S78390 | 772510 | DISK—COMPRESSOR, 10TH STAGE.
S78774 | 772510 | DISK—COMPRESSOR, 10TH STAGE.
T19111 | 772510 | DISK—COMPRESSOR, 10TH STAGE.
T19185 | 772510 | DISK—COMPRESSOR, 10TH STAGE.
T28090 | 772510 | DISK—COMPRESSOR, 10TH STAGE.
T28130 | 772510 | DISK—COMPRESSOR, 10TH STAGE.
T28230 | 772510 | DISK—COMPRESSOR, 10TH STAGE.
BENCAP3554 | 815610 | DISK—COMPRESSOR, 10TH STAGE.
BENCAP8866 | 815610 | DISK—COMPRESSOR, 10TH STAGE.
BENCAP9500 | 815610 | DISK—COMPRESSOR, 10TH STAGE.
BENCAR3177 | 815610 | DISK—COMPRESSOR, 10TH STAGE.
2A0326 | 701411 | DISK—COMPRESSOR, 11TH STAGE.
8Y2537 | 701411 | DISK—COMPRESSOR, 11TH STAGE.
B211AA0141 | 772511 | DISK—COMPRESSOR, 11TH STAGE.
B211AA0611 | 772511 | DISK—COMPRESSOR, 11TH STAGE.
B211AA0838 | 772511 | DISK—COMPRESSOR, 11TH STAGE.
B211AA0934 | 772511 | DISK—COMPRESSOR, 11TH STAGE.
B211AA1235 | 772511 | DISK—COMPRESSOR, 11TH STAGE.
B211AA1315 | 772511 | DISK—COMPRESSOR, 11TH STAGE.
B211AA1357 | 772511 | DISK—COMPRESSOR, 11TH STAGE.
BENCAH0266 | 772511 | DISK—COMPRESSOR, 11TH STAGE.
BENCAH8830 | 772511 | DISK—COMPRESSOR, 11TH STAGE.
BENCAK0480 | 772511 | DISK—COMPRESSOR, 11TH STAGE.
BENCAK7394 | 772511 | DISK—COMPRESSOR, 11TH STAGE.
BENCAL2738 | 772511 | DISK—COMPRESSOR, 11TH STAGE.
BENCAM2075 | 772511 | DISK—COMPRESSOR, 11TH STAGE.
BENCAM7493 | 772511 | DISK—COMPRESSOR, 11TH STAGE.
BENCAM7745 | 772511 | DISK—COMPRESSOR, 11TH STAGE.
BENCAM7814 | 772511 | DISK—COMPRESSOR, 11TH STAGE.
BENCAN3212 | 772511 | DISK—COMPRESSOR, 11TH STAGE.
BENCAN7762 | 772511 | DISK—COMPRESSOR, 11TH STAGE.
H58198 | 772511 | DISK—COMPRESSOR, 11TH STAGE.
J24723 | 772511 | DISK—COMPRESSOR, 11TH STAGE.
L55201 | 772511 | DISK—COMPRESSOR, 11TH STAGE.
M10783 | 772511 | DISK—COMPRESSOR, 11TH STAGE.
M40303 | 772511 | DISK—COMPRESSOR, 11TH STAGE.
M61351 | 772511 | DISK—COMPRESSOR, 11TH STAGE.
M61382 | 772511 | DISK—COMPRESSOR, 11TH STAGE.
M62071 | 772511 | DISK—COMPRESSOR, 11TH STAGE.
M73309 | 772511 | DISK—COMPRESSOR, 11TH STAGE.
M87068 | 772511 | DISK—COMPRESSOR, 11TH STAGE.
N03523 | 772511 | DISK—COMPRESSOR, 11TH STAGE.
N41429 | 772511 | DISK—COMPRESSOR, 11TH STAGE.
N97351 | 772511 | DISK—COMPRESSOR, 11TH STAGE.
N97355 | 772511 | DISK—COMPRESSOR, 11TH STAGE.
P03557 | 772511 | DISK—COMPRESSOR, 11TH STAGE.
P11649 | 772511 | DISK—COMPRESSOR, 11TH STAGE.
P51901 | 772511 | DISK—COMPRESSOR, 11TH STAGE.
P52302 | 772511 | DISK—COMPRESSOR, 11TH STAGE.
P52553 | 772511 | DISK—COMPRESSOR, 11TH STAGE.
P53051 | 772511 | DISK—COMPRESSOR, 11TH STAGE.
P66344 | 772511 | DISK—COMPRESSOR, 11TH STAGE.
P66429 | 772511 | DISK—COMPRESSOR, 11TH STAGE.
P76611 | 772511 | DISK—COMPRESSOR, 11TH STAGE.
R05611 | 772511 | DISK—COMPRESSOR, 11TH STAGE.
R18714 | 772511 | DISK—COMPRESSOR, 11TH STAGE.
R29877 | 772511 | DISK—COMPRESSOR, 11TH STAGE.
R29944 | 772511 | DISK—COMPRESSOR, 11TH STAGE.
R29960 | 772511 | DISK—COMPRESSOR, 11TH STAGE.
R30004 | 772511 | DISK—COMPRESSOR, 11TH STAGE.
R30196 | 772511 | DISK—COMPRESSOR, 11TH STAGE.
R30400 | 772511 | DISK—COMPRESSOR, 11TH STAGE.
R30622 | 772511 | DISK—COMPRESSOR, 11TH STAGE.
R30734 | 772511 | DISK—COMPRESSOR, 11TH STAGE.
R30906 | 772511 | DISK—COMPRESSOR, 11TH STAGE.
R44093 | 772511 | DISK—COMPRESSOR, 11TH STAGE.
R44808 | 772511 | DISK—COMPRESSOR, 11TH STAGE.
R45420 | 772511 | DISK—COMPRESSOR, 11TH STAGE.
R45926 | 772511 | DISK—COMPRESSOR, 11TH STAGE.
R46487 | 772511 | DISK—COMPRESSOR, 11TH STAGE.
S04447 | 772511 | DISK—COMPRESSOR, 11TH STAGE.
S04609 | 772511 | DISK—COMPRESSOR, 11TH STAGE.
S80579 | 772511 | DISK—COMPRESSOR, 11TH STAGE.
S80718 | 772511 | DISK—COMPRESSOR, 11TH STAGE.
S80811 | 772511 | DISK—COMPRESSOR, 11TH STAGE.
T22392 | 772511 | DISK—COMPRESSOR, 11TH STAGE.
T23022 | 772511 | DISK—COMPRESSOR, 11TH STAGE.
T23028 | 772511 | DISK—COMPRESSOR, 11TH STAGE.
T23042 | 772511 | DISK—COMPRESSOR, 11TH STAGE.
BENCAM8030 | 815611 | DISK—COMPRESSOR, 11TH STAGE.
BENCAP1478 | 815611 | DISK—COMPRESSOR, 11TH STAGE.
BENCAP1525 | 815611 | DISK—COMPRESSOR, 11TH STAGE.
BENCAP3999 | 815611 | DISK—COMPRESSOR, 11TH STAGE.
3A7566 | 701412 | DISK—COMPRESSOR, 12TH STAGE.
BENCAH0234 | 772512 | DISK—COMPRESSOR, 12TH STAGE.
H58273 | 772512 | DISK—COMPRESSOR, 12TH STAGE.
H76934 | 772512 | DISK—COMPRESSOR, 12TH STAGE.
K04068 | 772512 | DISK—COMPRESSOR, 12TH STAGE.
L85496 | 772512 | DISK—COMPRESSOR, 12TH STAGE.
M09749 | 772512 | DISK—COMPRESSOR, 12TH STAGE.
M10951 | 772512 | DISK—COMPRESSOR, 12TH STAGE.
M49036 | 772512 | DISK—COMPRESSOR, 12TH STAGE.
M61295 | 772512 | DISK—COMPRESSOR, 12TH STAGE.
M84028 | 772512 | DISK—COMPRESSOR, 12TH STAGE.
M84233 | 772512 | DISK—COMPRESSOR, 12TH STAGE.
N57563 | 772512 | DISK—COMPRESSOR, 12TH STAGE.
N58053 | 772512 | DISK—COMPRESSOR, 12TH STAGE.
P11181 | 772512 | DISK—COMPRESSOR, 12TH STAGE.
P11212 | 772512 | DISK—COMPRESSOR, 12TH STAGE.
P51407 | 772512 | DISK—COMPRESSOR, 12TH STAGE.
P51774 | 772512 | DISK—COMPRESSOR, 12TH STAGE.
P52401 | 772512 | DISK—COMPRESSOR, 12TH STAGE.
P77282 | 772512 | DISK—COMPRESSOR, 12TH STAGE.
P97978 | 772512 | DISK—COMPRESSOR, 12TH STAGE.
R17545 | 772512 | DISK—COMPRESSOR, 12TH STAGE.
R18483 | 772512 | DISK—COMPRESSOR, 12TH STAGE.
R18596 | 772512 | DISK—COMPRESSOR, 12TH STAGE.
R45619 | 772512 | DISK—COMPRESSOR, 12TH STAGE.
R45941 | 772512 | DISK—COMPRESSOR, 12TH STAGE.
R72907 | 772512 | DISK—COMPRESSOR, 12TH STAGE.
R73448 | 772512 | DISK—COMPRESSOR, 12TH STAGE.
R73794 | 772512 | DISK—COMPRESSOR, 12TH STAGE.
R74102 | 772512 | DISK—COMPRESSOR, 12TH STAGE.
R74226 | 772512 | DISK—COMPRESSOR, 12TH STAGE.
S01740 | 772512 | DISK—COMPRESSOR, 12TH STAGE.
S01866 | 772512 | DISK—COMPRESSOR, 12TH STAGE.
S01877 | 772512 | DISK—COMPRESSOR, 12TH STAGE.
S01918 | 772512 | DISK—COMPRESSOR, 12TH STAGE.
S02036 | 772512 | DISK—COMPRESSOR, 12TH STAGE.
S19787 | 772512 | DISK—COMPRESSOR, 12TH STAGE.
S51385 | 772512 | DISK—COMPRESSOR, 12TH STAGE.
S51589 | 772512 | DISK—COMPRESSOR, 12TH STAGE.
SO1816 | 772512 | DISK—COMPRESSOR, 12TH STAGE.
B212AA0497 | 798512 | DISK—COMPRESSOR, 12TH STAGE.
B212AA0517 | 798512 | DISK—COMPRESSOR, 12TH STAGE.
B212AA0943 | 798512 | DISK—COMPRESSOR, 12TH STAGE.
B212AA1106 | 798512 | DISK—COMPRESSOR, 12TH STAGE.
BENCAJ6163 | 798512 | DISK—COMPRESSOR, 12TH STAGE.
BENCAJ9174 | 798512 | DISK—COMPRESSOR, 12TH STAGE.
BENCAK2345 | 798512 | DISK—COMPRESSOR, 12TH STAGE.
BENCAK2388 | 798512 | DISK—COMPRESSOR, 12TH STAGE.
BENCAK5240 | 798512 | DISK—COMPRESSOR, 12TH STAGE.
BENCAK9190 | 798512 | DISK—COMPRESSOR, 12TH STAGE.
BENCAL2466 | 798512 | DISK—COMPRESSOR, 12TH STAGE.
BENCAL5411 | 798512 | DISK—COMPRESSOR, 12TH STAGE.
BENCAL6708 | 798512 | DISK—COMPRESSOR, 12TH STAGE.
BENCAM3530 | 798512 | DISK—COMPRESSOR, 12TH STAGE.
BENCAM3774 | 798512 | DISK—COMPRESSOR, 12TH STAGE.
BENCAM5489 | 798512 | DISK—COMPRESSOR, 12TH STAGE.
BENCAM6218 | 798512 | DISK—COMPRESSOR, 12TH STAGE.
BENCAN0910 | 798512 | DISK—COMPRESSOR, 12TH STAGE.
BENCAN6906 | 798512 | DISK—COMPRESSOR, 12TH STAGE.
S94496 | 798512 | DISK—COMPRESSOR, 12TH STAGE.
S94583 | 798512 | DISK—COMPRESSOR, 12TH STAGE.
S94619 | 798512 | DISK—COMPRESSOR, 12TH STAGE.
S94637 | 798512 | DISK—COMPRESSOR, 12TH STAGE.
T28485 | 798512 | DISK—COMPRESSOR, 12TH STAGE.
T43078 | 798512 | DISK—COMPRESSOR, 12TH STAGE.
T43084 | 798512 | DISK—COMPRESSOR, 12TH STAGE.
BENCAP3428 | 815612 | DISK—COMPRESSOR, 12TH STAGE.
BENCAP7698 | 815612 | DISK—COMPRESSOR, 12TH STAGE.
BENCAP7719 | 815612 | DISK—COMPRESSOR, 12TH STAGE.
BENCAP7720 | 815612 | DISK—COMPRESSOR, 12TH STAGE.
BENCAP8481 | 815612 | DISK—COMPRESSOR, 12TH STAGE.
BENCAR2033 | 815612 | DISK—COMPRESSOR, 12TH STAGE.
* The P/N and description for each SN are provided as reference information.

Table 2.—Affected Rear Compressor Front Hubs and Rear Compressor Hubs
SN | P/N* | Description*
2U4347 | 521041 | HUB—REAR COMPRESSOR, FRONT.
2U4814 | 521041 | HUB—REAR COMPRESSOR, FRONT.
2U5426 | 521041 | HUB—REAR COMPRESSOR, FRONT.
4R1473 | 521041 | HUB—REAR COMPRESSOR, FRONT.
6P7156 | 521041 | HUB—REAR COMPRESSOR, FRONT.
9L9671 | 521041 | HUB—REAR COMPRESSOR, FRONT.
9L9679 | 521041 | HUB—REAR COMPRESSOR, FRONT.
9P3378 | 521041 | HUB—REAR COMPRESSOR, FRONT.
9S4536 | 521041 | HUB—REAR COMPRESSOR, FRONT.
9V7938 | 521041 | HUB—REAR COMPRESSOR, FRONT.
2U4900 | 650782 | HUB—REAR COMPRESSOR, FRONT.
2X6377 | 650782 | HUB—REAR COMPRESSOR, FRONT.
9P4067 | 650782 | HUB—REAR COMPRESSOR, FRONT.
B-21738 | 650782 | HUB—REAR COMPRESSOR, FRONT.
2U5010 | 698145 | HUB—REAR COMPRESSOR, FRONT.
9V8201 | 698145 | HUB—REAR COMPRESSOR, FRONT.
3X3000 | 717623 | HUB—REAR COMPRESSOR, FRONT.
3X6979 | 717623 | HUB—REAR COMPRESSOR, FRONT.
5Z4371 | 717623 | HUB—REAR COMPRESSOR, FRONT.
8X6204 | 717623 | HUB—REAR COMPRESSOR, FRONT.
9V8645 | 717623 | HUB—REAR COMPRESSOR, FRONT.
G23815 | 717623 | HUB—REAR COMPRESSOR, FRONT.
G23817 | 717623 | HUB—REAR COMPRESSOR, FRONT.
H05055 | 717623 | HUB—REAR COMPRESSOR, FRONT.
H05059 | 717623 | HUB—REAR COMPRESSOR, FRONT.
K47148 | 717623 | HUB—REAR COMPRESSOR, FRONT.
N08016 | 717623 | HUB—REAR COMPRESSOR, FRONT.
N08021 | 717623 | HUB—REAR COMPRESSOR, FRONT.
P16923 | 717623 | HUB—REAR COMPRESSOR, FRONT.
R15834 | 717623 | HUB—REAR COMPRESSOR, FRONT.
S61487 | 717623 | HUB—REAR COMPRESSOR, FRONT.
N08020 | 717623 | HUB—REAR COMPRESSOR, FRONT.
2U4331 | 726222 | HUB—REAR COMPRESSOR, FRONT.
4P2249 | 726222 | HUB—REAR COMPRESSOR, FRONT.
4R2166 | 726222 | HUB—REAR COMPRESSOR, FRONT.
9M2324 | 726222 | HUB—REAR COMPRESSOR, FRONT.
9P3757 | 726222 | HUB—REAR COMPRESSOR, FRONT.
9S4223 | 726222 | HUB—REAR COMPRESSOR, FRONT.
9V8146 | 726222 | HUB—REAR COMPRESSOR, FRONT.
2X6391 | 726227 | HUB—REAR COMPRESSOR, FRONT.
3X2998 | 726227 | HUB—REAR COMPRESSOR, FRONT.
4R1190 | 726227 | HUB—REAR COMPRESSOR, FRONT.
6X0015 | 726227 | HUB—REAR COMPRESSOR, FRONT.
6X0071 | 726227 | HUB—REAR COMPRESSOR, FRONT.
9V8100 | 726227 | HUB—REAR COMPRESSOR, FRONT.
9V8331 | 726227 | HUB—REAR COMPRESSOR, FRONT.
4R1272 | 726230 | HUB—REAR COMPRESSOR, FRONT.
9V8024 | 726230 | HUB—REAR COMPRESSOR, FRONT.
9V8107 | 726230 | HUB—REAR COMPRESSOR, FRONT.
9M2176 | 524857 | HUB—REAR COMPRESSOR, REAR.
4R3174 | 565744 | HUB—REAR COMPRESSOR, REAR.
4R3359 | 565744 | HUB—REAR COMPRESSOR, REAR.
4R3432 | 565744 | HUB—REAR COMPRESSOR, REAR.
4R3474 | 565744 | HUB—REAR COMPRESSOR, REAR.
4R3652 | 565744 | HUB—REAR COMPRESSOR, REAR.
4R3774 | 565744 | HUB—REAR COMPRESSOR, REAR.
4R5205 | 565744 | HUB—REAR COMPRESSOR, REAR.
7V1912 | 565744 | HUB—REAR COMPRESSOR, REAR.
9P4228 | 565744 | HUB—REAR COMPRESSOR, REAR.
9T8402 | 565744 | HUB—REAR COMPRESSOR, REAR.
9T8670 | 565744 | HUB—REAR COMPRESSOR, REAR.
9T8888 | 565744 | HUB—REAR COMPRESSOR, REAR.
SR-403 | 565744 | HUB—REAR COMPRESSOR, REAR.
671178 | 565744-001 | HUB ASSY—REAR COMPRESSOR, REAR.
3S3471 | 565744-001 | HUB ASSY—REAR COMPRESSOR, REAR.
6809 | 625660 | HUB ASSY—REAR COMPRESSOR, REAR.
1Y0069 | 625660 | HUB ASSY—REAR COMPRESSOR, REAR.
1Z2244 | 625660 | HUB ASSY—REAR COMPRESSOR, REAR.
2X6293 | 625660 | HUB ASSY—REAR COMPRESSOR, REAR.
3A1492 | 625660 | HUB ASSY—REAR COMPRESSOR, REAR.
3GV8156 | 625660 | HUB ASSY—REAR COMPRESSOR, REAR.
3V7807 | 625660 | HUB ASSY—REAR COMPRESSOR, REAR.
3V7953 | 625660 | HUB ASSY—REAR COMPRESSOR, REAR.
3V8198 | 625660 | HUB ASSY—REAR COMPRESSOR, REAR.
3V8404 | 625660 | HUB ASSY—REAR COMPRESSOR, REAR.
3V8406 | 625660 | HUB ASSY—REAR COMPRESSOR, REAR.
3V8553 | 625660 | HUB ASSY—REAR COMPRESSOR, REAR.
3V8659 | 625660 | HUB ASSY—REAR COMPRESSOR, REAR.
3Z2149 | 625660 | HUB ASSY—REAR COMPRESSOR, REAR.
4B8465 | 625660 | HUB ASSY—REAR COMPRESSOR, REAR.
4Y5517 | 625660 | HUB ASSY—REAR COMPRESSOR, REAR.
7B5438 | 625660 | HUB ASSY—REAR COMPRESSOR, REAR.
7B5447 | 625660 | HUB ASSY—REAR COMPRESSOR, REAR.
7W7576 | 625660 | HUB ASSY—REAR COMPRESSOR, REAR.
7W7602 | 625660 | HUB ASSY—REAR COMPRESSOR, REAR.
8X6038 | 625660 | HUB ASSY—REAR COMPRESSOR, REAR.
8X6092 | 625660 | HUB ASSY—REAR COMPRESSOR, REAR.
8X6105 | 625660 | HUB ASSY—REAR COMPRESSOR, REAR.
9W6532 | 625660 | HUB ASSY—REAR COMPRESSOR, REAR.
9Y1739 | 625660 | HUB ASSY—REAR COMPRESSOR, REAR.
9Z1690 | 625660 | HUB ASSY—REAR COMPRESSOR, REAR.
G37540 | 625660 | HUB ASSY—REAR COMPRESSOR, REAR.
G37830 | 625660 | HUB ASSY—REAR COMPRESSOR, REAR.
G37838 | 625660 | HUB ASSY—REAR COMPRESSOR, REAR.
G53600 | 625660 | HUB ASSY—REAR COMPRESSOR, REAR.
G53607 | 625660 | HUB ASSY—REAR COMPRESSOR, REAR.
G73739 | 625660 | HUB ASSY—REAR COMPRESSOR, REAR.
G90111 | 625660 | HUB ASSY—REAR COMPRESSOR, REAR.
G90439 | 625660 | HUB ASSY—REAR COMPRESSOR, REAR.
H05137 | 625660 | HUB ASSY—REAR COMPRESSOR, REAR.
H325553 | 625660 | HUB ASSY—REAR COMPRESSOR, REAR.
H32650 | 625660 | HUB ASSY—REAR COMPRESSOR, REAR.
H50340 | 625660 | HUB ASSY—REAR COMPRESSOR, REAR.
HG9804 | 625660 | HUB ASSY—REAR COMPRESSOR, REAR.
IX9575 | 625660 | HUB ASSY—REAR COMPRESSOR, REAR.
J20729 | 625660 | HUB ASSY—REAR COMPRESSOR, REAR.
J21131 | 625660 | HUB ASSY—REAR COMPRESSOR, REAR.
J26334 | 625660 | HUB ASSY—REAR COMPRESSOR, REAR.
J71521 | 625660 | HUB ASSY—REAR COMPRESSOR, REAR.
J71724 | 625660 | HUB ASSY—REAR COMPRESSOR, REAR.
K13732 | 625660 | HUB ASSY—REAR COMPRESSOR, REAR.
OB6809 | 625660 | HUB ASSY—REAR COMPRESSOR, REAR.
1A6622 | 625660-001 | HUB ASSY—REAR COMPRESSOR, REAR.
3V8201 | 625660-001 | HUB ASSY—REAR COMPRESSOR, REAR.
4A1601 | 625660-001 | HUB ASSY—REAR COMPRESSOR, REAR.
G73781 | 625660-001 | HUB ASSY—REAR COMPRESSOR, REAR.
H32570 | 625660-001 | HUB ASSY—REAR COMPRESSOR, REAR.
H89858 | 625660-001 | HUB ASSY—REAR COMPRESSOR, REAR.
2T9662 | 625665 | HUB ASSY—REAR COMPRESSOR, REAR.
4R4959 | 625665 | HUB ASSY—REAR COMPRESSOR, REAR.
6T1172 | 625665 | HUB ASSY—REAR COMPRESSOR, REAR.
9T8549 | 625665 | HUB ASSY—REAR COMPRESSOR, REAR.
GR0491 | 625665 | HUB ASSY—REAR COMPRESSOR, REAR.
G37525 | 772293 | HUB ASSY—REAR COMPRESSOR, REAR.
H32635 | 772293 | HUB ASSY—REAR COMPRESSOR, REAR.
L45221 | 772293 | HUB ASSY—REAR COMPRESSOR, REAR.
3M8156 | 781028-002 | HUB ASSY—REAR COMPRESSOR, REAR.
7V1601 | 781031 | HUB ASSY—REAR COMPRESSOR, REAR.
9T8658 | 781031 | HUB ASSY—REAR COMPRESSOR, REAR.
9T8794 | 781031 | HUB ASSY—REAR COMPRESSOR, REAR.
IUI885 | 781031 | HUB ASSY—REAR COMPRESSOR, REAR.
R39541 | 804593 | HUB ASSY—REAR COMPRESSOR, REAR.
R92677 | 804593 | HUB ASSY—REAR COMPRESSOR, REAR.
S26076 | 804593 | HUB ASSY—REAR COMPRESSOR, REAR.
BENCAM2398 | 805159 | HUB ASSY—REAR COMPRESSOR, REAR.
BENCAP3169 | 805159 | HUB ASSY—REAR COMPRESSOR, REAR.
BENCAL2074 | 805163 | HUB ASSY—REAR COMPRESSOR, REAR.
T31880 | 805163 | HUB ASSY—REAR COMPRESSOR, REAR.
T31893 | 805163 | HUB ASSY—REAR COMPRESSOR, REAR.
* The P/N and description for each SN are provided as reference information.

Prohibition of Installation of Disks and Hubs Listed in Table 1

(g) After the effective date of this AD, do not install any disk or hub listed in Table 1 of this AD that has zero cycles-in-service since May 14, 2001.

Return to Service Information

(h) Pratt & Whitney issued ASB No. JT8D A6442, dated April 4, 2003, containing additional repair information as to how parts removed as a result of paragraph (f) of this AD may be returned to service.

Definition of Shop Visit

(i) A shop visit is defined as when the engine or module first goes to a maintenance base that can do these procedures regardless of the scheduled maintenance action or the reason for engine removal.

Alternative Methods of Compliance

(j) The Manager, Engine Certification Office, has the authority to approve alternative methods of compliance for this AD if requested using the procedures found in 14 CFR 39.19.

Related Information

(k) None.

Issued in Burlington, Massachusetts, on December 20, 2004.
Francis A. Favara,
Acting Manager, Engine and Propeller Directorate, Aircraft Certification Service.

[FR Doc. 04-28385 Filed 12-29-04; 8:45 am]

BILLING CODE 4910-13-U